Title 3—

The President

Proclamation 10989 of November 7, 2025

Granting Pardons for Certain Offenses Related to the 2020 Presidential Election

By the President of the United States of America

A Proclamation

This proclamation ends a grave national injustice perpetrated upon the American people following the 2020 Presidential Election and continues the process of national reconciliation.

Acting pursuant to the grant of authority in Article II, Section 2, of the Constitution of the United States, I, DONALD J. TRUMP, do hereby grant a full, complete, and unconditional pardon to all United States citizens for conduct relating to the advice, creation, organization, execution, submission, support, voting, activities, participation in, or advocacy for or of any slate or proposed slate of Presidential electors, whether or not recognized by any State or State official, in connection with the 2020 Presidential Election, as well for any conduct relating to their efforts to expose voting fraud and vulnerabilities in the 2020 Presidential Election.

This includes, but is not limited to:

• Mark Amick

• Kathy Berden

• Christina Bobb

• Tyler Bowyer

• Joseph Brannan

• Carol Brunner

• Mary Buestrin

• Darryl Carlson

• James “Ken” Carroll

• Brad Carver

• Robert Cheeley

• Kenneth Chesebro

• Hank Choate

• Jeffrey Clark

• Vikki Consiglio

• Nancy Cottle

• James DeGraffenreid

• John Downey

• John Eastman

• Jenna Ellis

• Boris Epshteyn

• Amy Facchinello

• Bill Feehan

• Carolyn Fisher

• Harrison Floyd

• Clifford Frost

• Kay Godwin

• Edward Scott Grabins

• Stanley Grot

• Rudolph Giuliani

• John Haggard

• Scott Hall

• Misty Hampton

• David G. Hanna

• Mark Hennessy

• Mari-Ann Henry

• Durward James Hindle III

• Andrew Hitt

• Jake Hoffman

• Burt Jones

• Anthony T. Kern

• Kathy Kiernen

• Timothy King

• Trevian Kutti

• James Lamon

• Cathleen Latham

• Jesse Law

• Stephen Lee

• Michele Lundgren

• Meshawn Maddock

• Michael McDonald

• Mark Meadows

• Shawn Meehan

• Robert Montgomery

• Daryl Moody

• Samuel I. Moorhead

• Loraine Pellegrino

• Sidney Powell

• James Renner

• Eileen Rice

• Mayra Rodriguez

• Mike Roman

• Rose Rook

• Kelly Ruh

• Greg Safsten

• David Shafer

• Marian Sheridan

• Ray Stallings Smith III

• Robert F. Spindell Jr.

• Shawn Still

• Ken Thompson

• Pam Travis

• James Troupis

• Kent Vanderwood

• Kelli Ward

• Michael Ward

• C.B. Yadav

This pardon does not apply to the President of the United States, Donald J. Trump.

The Attorney General, acting through the Pardon Attorney, shall administer and effectuate the issuance of certificates of pardon to eligible applicants.

IN WITNESS WHEREOF, I have hereunto set my hand this seventh day of November, in the year of our Lord two thousand twenty-five, and of the Independence of the United States of America the two hundred and fiftieth.

[FR Doc. 2025-19928

Filed 11-13-25; 11:15 am]

Billing code 3395-F4-P